DEPARTMENT OF JUSTICE

Federal Bureau of Investigation

Criminal Justice Information Services (CJIS) Division; Agency Information Collection Activities: Proposed Collection: Comment Request

ACTION: Notice of Information Collection Under Review: SUPPLEMENTARY HOMICIDE REPORT.

The proposed information collection is published to obtain comments from the public and affected agencies. Comments are encouraged and will be accepted until March 27, 2001.

Request written comments and suggestions from the public and affected agencies concerning the proposed collection of information. Comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Comments and/or suggestions regarding the item(s) contained in this notice, especially regarding the estimated public burden and associated response time should be directed to Gregory E. Scarbro (phone number and address listed below). Additional information as well as copies of the proposed information collection instrument with instructions are available by contacting Gregory E. Scarbro, Unit Chief, telephone 304-625-4830, FBI, CJIS Division, Crime Statistics Management Unit, E-3, 1000 Custer Hollow Road, Clarksburg, WV 26306.

Overview of this information collection:

(1) Type of information collection: Extension of Current Collection.

(2) The title of the form/collection: Supplementary Homicide Report.

(3) The agency form number, if any, and applicable component of the Department Sponsoring the collection: Form I-704. Federal Bureau of Investigation, Department of Justice.

(4) Affected public who will be asked or required to respond, as well as brief abstract. Primary: Local and State law enforcement agencies. These reports will gather information on age, sex, race, ethnic origin and relationship of murder victims; the weapon and motive. Summary statistics are published in the annual report Crime in the United States.

(5) An estimate of the total number of respondents and the amount of time estimated for an average respondent to respond: 16,788 agencies with 201,456 responses (including zero reports); and with an average of 9 minutes a month per responding agency.

(6) An estimate of the total public burden (in hours) associated with this collection: 30,218 hours annually.

If additional information is required contact: Mr. Robert B. Briggs, Clearance Officer, United States Department of Justice, Information Management and Security Staff, Justice Management Division, Suite 850, Washington Center, 1001 G Street, NW., Washington, DC 20530.

Dated: January 22, 2001.
Robert B. Briggs,
Department Clearance Officer, United States Department of Justice.

[FR Doc. 01-2364 Filed 1-25-01; 8:45 am]

BILLING CODE 4410-02-M